DEPARTMENT OF JUSTICE

Bureau of Alcohol, Tobacco, Firearms and Explosives

[OMB Number 1140-0095]

Agency Information Collection Activities; Proposed eCollection eComments Requested; Revision of a Currently Approved Collection; Office of Human Resources and Professional Development Student and Supervisor Training Validation Surveys

AGENCY: Bureau of Alcohol, Tobacco, Firearms and Explosives, Department of Justice.

ACTION: 60-day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0095 (Office of Human Resources and Professional Development Student and Supervisor Training Validation Surveys) is being revised due to a change in burden, since there is a reduction in both the total responses and total burden hours due to less respondents.

DATES: Comments are encouraged and will be accepted for 60 days until April 22, 2019.

FOR FURTHER INFORMATION CONTACT: If you have additional comments, regarding the estimated public burden or associated response time, suggestions, or need a copy of the proposed information collection instrument with instructions, or additional information, please contact: James Scott either by mail at ATF Human Resources and Professional Development, 99 New York Ave. NE, Washington, DC 20226, by email at james.scott@atf.gov, or by telephone at 202-648-8385.

SUPPLEMENTARY INFORMATION: Written comments and suggestions from the public and affected agencies concerning the proposed collection of information are encouraged. Your comments should address one or more of the following four points:

— Evaluate whether the proposed collection of information is necessary for the proper performance of the functions of the agency, including whether the information will have practical utility;

— Evaluate the accuracy of the agency's estimate of the burden of the proposed collection of information, including the validity of the methodology and assumptions used;

— Evaluate whether and if so how the quality, utility, and clarity of the information to be collected can be enhanced; and

— Minimize the burden of the collection of information on those who are to respond, including through the use of appropriate automated, electronic, mechanical, or other technological collection techniques or other forms of information technology, e.g., permitting electronic submission of responses.

Overview of This Information Collection

1. Type of Information Collection: Revision a currently approved collection.

2. The Title of the Form/Collection: Office of Human Resources and Professional Development Student and Supervisor Training Validation Surveys.

3. The agency form number, if any, and the applicable component of the Department sponsoring the collection:

Form number (if applicable): None.

Component: Bureau of Alcohol, Tobacco, Firearms and Explosives, U.S. Department of Justice.

4. Affected public who will be asked or required to respond, as well as a brief abstract:

Primary: State, Local and Tribal Government.

Other (if applicable): None.

Abstract: The surveys are sent to students and their supervisors 6 months after completing training to determine if the training adequately prepared them for duties as an explosives detection canine handler. Survey responses are used to improve the training and ensure it remains current to the needs of the field. The surveys are used for both the basic explosives canine handler-training program and the advanced EDC SEEK K-9 courses.

5. An estimate of the total number of respondents and the amount of time estimated for an average respondent to respond: An estimated 50 respondents will utilize either of the two the surveys and it will take each respondent approximately 15 minutes to complete one of the surveys.

6. An estimate of the total public burden (in hours) associated with the collection: The estimated annual public burden associated with this collection is 12.5 (13 hours) which is equal to 50 (# of respondents)* 1 (# of responses per respondents) * .25 (15 minutes).

7. An Explanation of the Change in Estimates: The adjustments associated with this collection include a reduction in the total respondents and burden hours by 50 and 12.5 (13) hours respectively, since the previous renewal in 2016.

If additional information is required contact: Melody Braswell, Department Clearance Officer, United States Department of Justice, Justice Management Division, Policy and Planning Staff, Two Constitution Square, 145 N Street NE, 3E.405A, Washington, DC 20530.

Dated: February 15, 2019.
Melody Braswell,
Department Clearance Officer for PRA, U.S. Department of Justice.

[FR Doc. 2019-02936 Filed 2-20-19; 8:45 am]

BILLING CODE 4410-FY-P